DEPARTMENT OF COMMERCE

International Trade Administration

[A-201-802]

Gray Portland Cement and Clinker From Mexico; Notice of Extraordinary Challenge Committee's Final Decision and Amended Final Results of Antidumping Duty Administrative Review

AGENCY: Import Administration, International Trade Administration, Department of Commerce.

ACTION: Notice of Extraordinary Challenge Committee's final decision and amended final results of antidumping duty administrative review.

SUMMARY: On October 30, 2003, the Extraordinary Challenge Committee issued its decision to deny the Department of Commerce's April 13, 2000, extraordinary challenge petition with respect to a determination made by the Binational Panel in the final results of administrative review of the antidumping duty order on gray portland cement and clinker from Mexico covering the period August 1, 1994, through July 31, 1995. As there is now a final and conclusive decision in this case, we are amending the amended final results of review and we will instruct U.S. Customs and Border Protection to liquidate entries subject to this review.

EFFECTIVE DATE: December 23, 2003.

FOR FURTHER INFORMATION CONTACT: Hermes Pinilla or Mark Ross, Office of AD/CVD Enforcement 3, Import Administration, International Trade Administration, U.S. Department of Commerce, 14th Street and Constitution Avenue, NW., Washington, DC 20230; telephone: (202) 482-3477 or (202) 482-4794, respectively.

SUPPLEMENTARY INFORMATION:

Background

On April 9, 1997, the Department of Commerce (the Department) published in the Federal Register the final results of the administrative review of the antidumping duty order on gray portland cement and clinker from Mexico (62 FR 17148) (amended May 5, 1997) ¹ (Fifth Review Final Results).

¹ See Gray Portland Cement and Clinker from Mexico: Amended Final Results of Antidumping Duty Administrative Review, 62 FR 24414 (May 5, 1997).

CEMEX, S.A. de C.V. (CEMEX), GCC Cemento, S.A. de C.V. (GCCC) ², and the Southern Tier Cement Committee (the petitioner) contested various aspects of the Department's Fifth Review Final Results. On June 18, 1999, the Binational Panel (the Panel) issued an order remanding to the Department the Fifth Review Final Results. Specifically, the Panel instructed the Department to implement the following: (1) Exclude the respondents' home-market sales of bagged Type I cement from the foreign like product in the calculation of normal value; (2) re-examine the record evidence to determine whether a constructed-export-price offset should be granted; (3) recalculate the difference-in-merchandise adjustment to reflect the exclusion of home-market sales of bagged cement; (4) correct certain ministerial errors.

² Cementos de Chihuahua, S.A. de C.V., was GCCC's formal name during this segment of the proceeding.

On November 15, 1999, the Department issued the final results of redetermination on remand, and on February 10, 2000, the Panel affirmed these results and dismissed the case. See Secretariat File No. USA-97-1904-01. On April 30, 2000, the Department filed an extraordinary challenge petition with the Extraordinary Challenge Committee (ECC). On October 30, 2003, the ECC determined that the Department's petition did not meet the criteria required for an extraordinary challenge review and thus denied the Department's petition. Therefore, as there is now a final and conclusive ECC decision in this action, we are amending our amended final results of review and we will instruct U.S. Customs and Border Protection (Customs) to liquidate entries subject to this review.

Amendment to Amended Final Results

Pursuant to section 516A(g) of the Tariff Act of 1930, as amended (the Act), we are now amending the amended final results of the administrative review of the antidumping duty order on gray portland cement and clinker from Mexico for the period August 1, 1994, through July 31, 1995. Based on the final results of redetermination on remand, the weighted-average antidumping margin for CEMEX and GCCC changes from 73.69 percent to 44.89 percent.

The Department will determine and Customs will assess appropriate antidumping duties on entries of the subject merchandise exported by firms covered by this review.

We are issuing and publishing this determination and notice in accordance with section 516A(g) of the Act.

Dated: December 17, 2003.
James J. Jochum,
Assistant Secretary for Import Administration.

[FR Doc. E3-00615 Filed 12-22-03; 8:45 am]

BILLING CODE 3510-DS-S